ENVIRONMENTAL PROTECTION AGENCY

40 CFR Parts 51 and 52

[AD-FRL-7466-9]

RIN 2060-AK28

Prevention of Significant Deterioration (PSD) and Nonattainment New Source Review (NSR): Routine Maintenance, Repair and Replacement

AGENCY: Environmental Protection Agency (EPA).

ACTION: Announcement of public hearings and a public comment line.

SUMMARY: The EPA is announcing five public hearings to be held on March 31, 2003, on the December 31, 2002, proposal to revise the regulations governing the NSR programs mandated by parts C and D of title I of the Clean Air Act (CAA). The proposed changes provide a future category of activities that would be considered to be routine maintenance, repair and replacement (RMRR) under the NSR program. See 67 FR 80290. The public hearings will provide interested parties the opportunity to present data, views, or arguments concerning these proposed changes. The EPA is holding the public hearings because of the number of the requests we received in a timely manner from interested parties throughout the nation. The EPA is also announcing the establishment of a comment line for the public to call and leave verbal comments on these proposed changes. The number is (919) 541-0211. Comments received through this phone number will be logged and placed in Docket No. A-2002-04.

DATES: The public hearings will convene at 9 a.m. and will end at 10 p.m. on March 31, 2003. Times are local for each hearing location.

ADDRESSES: The public hearings will be held at the following five locations simultaneously:

1. Albany Marriott Hotel, 189 Wolf Road, Albany, NY 12205, Phone 518-458-8444;

2. Doubletree Hotel Dallas, 5410 LBJ Freeway, Dallas, TX 75240, Phone (972) 934-8400;

3. Crowne Plaza Hotel, 8000 Merriman Road, Romulus, MI 48174, Phone 734-729-2600;

4. U.S. Environmental Protection Agency, 109 TW Alexander Drive, Research Triangle Park, North Carolina 27709, Building C, Auditorium C111, phone 919-541-5319; and

5. Hilton Salt Lake City Center, 255 South West Temple, Salt Lake City, UT 84101, Phone 801-328-2000.

Documents related to this proposed rulemaking are available for public inspection in the EPA Air Docket No. A-2002-04.

FOR FURTHER INFORMATION CONTACT: Mr. Dave Svendsgaard at (919) 541-2380, telefax (919) 541-5509, E-mail: svendsgaard.dave@epa.gov or by mail at U.S. Environmental Protection Agency, OAQPS, Information Transfer and Program Integration Division, (C339-03), Research Triangle Park, North Carolina 27711. As of the date of this announcement, the Agency intends to proceed with the hearings as announced; however, unforeseen circumstances may result in a postponement. Therefore, members of the public planning to attend any of these hearings are advised to contact Ms. Chandra Kennedy, U.S, Environmental Protection Agency, OAQPS, Information Transfer and Program Integration Division, (C339-03), Research Triangle Park, North Carolina 27711; telephone (919) 541-5319 or E-mail kennedy.chandra@epa.gov, to confirm the locations and date of the hearings. You may also check our New Source Review website at http://www.epa.gov/nsr for any changes in the date or locations. If you would like to speak at any of these hearings, you should also contact Ms. Chandra Kennedy. Presentations will be limited to 5 minutes each.

SUPPLEMENTARY INFORMATION: The EPA's planned seating arrangements for the hearings is theater style, with seating available on a first come first served basis for about 250 people. An agenda will be provided at the hearings.

Dated: March 7, 2003.
Henry C. Thomas,
Acting Director, Office of Air Quality Planning and Standards.

[FR Doc. 03-6186 Filed 3-12-03; 8:45 am]

BILLING CODE 6560-50-P